DEPARTMENT OF AGRICULTURE

Forest Service

Meadow Tolan Vegetation Management Project; Bitterroot National Forest, Ravalli County, MT

AGENCY: Forest Service, USDA.

ACTION: Notice of intent to prepare an environmental impact statement.

SUMMARY: The USDA Forest Service will prepare an environmental impact statement (EIS) to disclose the environmental effects of management activities proposed in the Meadow-Tolan area on the Sula Ranger District of the Bitterroot National Forest. Proposed management activities include management ignited prescribed fire, timber harvest, reforestation, pre-commercial thinning, aspen restoration, and road reconstruction. The Meadow-Tolan area is located in Ravalli County, Montana, approximately 40 miles southeast of Hamilton. The Meadow-Tolan area includes the Meadow and Tolan Creek drainages and several other tributary drainages between them.

A variety of management activities proposed in the project are being considered together because they represent either connected or cumulative actions as defined by the Council on Environmental Quality (40 CFR 1508.25). The purposes of the project are (1) To restore fire and its associated ecological benefits, (2) to harvest merchantable timber, (3) to reduce fuel accumulations, especially in an area adjacent to a rural subdivision, (4) to modify forest stand structure and species composition in order to maintain or restore ecosystem diversity, (5) to reduce motorized travel to comply with Forest Plan standard, (6) to amend the Forest Plan motorized access standards in an area where other resource benefits outweigh the benefits of restricting travel, (7) to thin young stands that are overstocked, and (8) to restore aspen clones that show signs of deterioration. This project level EIS will tier to the Bitterroot National Forest Land and Resource Management Plan (Forest Plan) and Final EIS (September 1987), which provides overall guidance for all land management activities on the Bitterroot National Forest.

DATES: Written comments and suggestions should be received by March 24, 2000.

ADDRESSES: The Responsible Official is Rodd Richardson, Forest Supervisor, Bitterroot National Forest, 1801 North First, Hamilton MT 59840.

FOR FURTHER INFORMATION CONTACT: Written comments and suggestions concerning the scope of the analysis or a request to be included on the project mailing list should be sent to John Ormiston, Acting Resource Team Leader, Sula Ranger District, Bitterroot National Forest, Phone (406) 821-3201.

SUPPLEMENTARY INFORMATION: The project area encompasses approximately 45,000 acres of land in west-central Montana on the Bitterroot National Forest. The Meadow-Tolan area includes the Meadow and Tolan Creek drainages and several other tributary drainages of the East Fort Bitterroot River, including Vapor Creek, Swift Creek, Bugle Creek, Kerlee Creek, Springer Creek, Mink Creek, and Bruce Creek. A map and legal descriptions are available on request.

An analysis of the Meadow-Tolan area reveals changes in how the forest vegetation currently looks and functions compared to the past. Natural patterns and stand structures have changed, largely due to the absence of fire during the 1900's in this fire dependent ecosystem. The result is notable changes in plant species composition and density, stand structures, fuels, seral species regeneration, and the health and vigor of forest stands. The primary purposes of prescribed fire and timber harvest in the Meadow-Tolan area is to maintain or restore ecosystem diversity, function, and health. There is also an opportunity to address ecological trends and at the same time utilize surplus biomass for forest products. Maintaining plant community diversity will promote the range of habitats that native plants and animals evolved in. Management prescriptions to promote diversity include low to moderate intensity management ignited prescribed fire; and on some sites prescribed fire in combination with silvicultural treatments. Silvicultural treatments proposed include pre-commercial thinning, timber harvest, and reforestation.

Managing fuels using fire and silvicultural practices would decrease the risk of uncharacteristically intense fires and associated undesirable effects. These activities could also increase the ability of the Forest Service to allow more naturally occurring fires to burn in the adjoining Anaconda-Pintler Wilderness Area by reducing fuels near private property at lower elevations. This would to some degree reduce the risks to private property from natural fires allowed to burn in the wilderness.

Vegetation treatments with commercial timber harvest and management ignited prescribed fire are proposed on approximately 2530 acres and 1430 acres, respectively. Proposed management ignited fire and harvest activities focus primarily on low- to mid-elevations and dry aspects; those considered at ecological risk due to fire absence.

The prescribed fire would focus on the ponderosa pine/Douglas-fir community, which have been most altered due to fire absence. Most of these treated acres will also include slashing of undesired and unmerchantable trees.

Big game forage, including some winter range areas, would be improved in the areas to be understory burned. Intermediate harvests will also be prescribed on about 1100 acres in the ponderosa pine/Douglas-fir communities to open forest canopies, reduce Douglas-fir encroachment, improve overall productivity and health. Following harvest, all areas would be treated with understory burning in order to reduce fuels, prepare sites for regeneration, rejuvenate the shrub component, and maintain fire as an ecosystem process.

Pre-commercial thinning is also needed on about 320 acres of densely stocked submerchantable trees in order to enhance tree growth and vigor. One area of approximately 20 acres will be treated with hand thinning and piling for the purpose of fuel reduction.

Approximately 1210 acres in the moist Douglas-fir forest community would be treated using intermediate harvests to reduce stand densities, increase health and vigor of the residual stand, salvage dead and dying trees from Douglas-fir bark beetle caused mortality or root rot, and increase resilience to other insects and diseases. Approximately 160 acres would be treated with a regeneration harvest where heavy mortality exists due to the Douglas-fir bark beetle. Douglas-fir beetles have been particularly active on north slopes in the area in the last few years and have reached epidemic population levels on the Sula Ranger District. Because of the uncertainty of future beetle populations, some of the area prescribed for intermediate harvests may require regenerating. About half the area would be understory burned following harvest. Activity fuels in remainder would be limbed and lopped or yarded to the landing to burn.

Due to the current level of beetle caused mortality and the expected future mortality, there are two units needing regeneration that will exceed 40 acres.

Eleven aspen stands on about 60 acres have matured and are showing signs of deterioration in the absence of fire. We propose to remove encroaching conifers by girdling or harvest and apply prescribed fire to restore aspen vigor and presence on the landscape.

We propose to establish a defensible perimeter around a cluster of private dwellings in the Echo Gulch area; thinning, pruning and prescribing fire to reduce fuels and therefore the risk of fire moving rapidly through the perimeter.

The Bitterroot Forest Plan provides guidance for management activities through its goals, objectives, standards, and management area direction. The areas of proposed management activities occur in Management Areas 1, 2, and 3a. Prescribed burning is proposed on lands within Forest Plan Management Areas 1, 2, 3a, and 3b. The management direction for these areas are briefly described, as follows. Management Area 1 emphasizes timber management, livestock and big game forage production, and roaded dispersed recreation activities. Management Area 2 emphasizes elk winter range habitat, allows for timber management and provides roaded dispersed recreation opportunities. Management Area 3a emphasizes visual quality, allows timber management, and provides roaded dispersed recreation opportunities. Management Area 3b emphasizes protection of riparian habitat and water quality and provides for water-related recreation.

Public scoping meetings and opportunities for interested parties to review and comment on the proposals for management were provided in Fall, 1998. Comments received have been retained and will be considered during the preparation of the Meadow Tolan EIS. Public participation is an important part of this analysis, continuing with additional scoping (40 CFR 1501.7), in February and March, 2000. In addition, the public is encouraged to visit with Forest Service officials at any time during the analysis and prior to the decision. The Forest Service will be seeking information, comments, and assistance from Federal, State, and local agencies and other individuals or organizations who may be interested in or affected by the proposed action.

Comments from the public and other agencies will be used in preparation of the Draft EIS. The scoping process will be used to identify issues and alternatives to the proposed action. Some public comments have already been received in conjunction with scoping documented in the Meadow-Tolan Project File. The following issues have already been identified: 1. What effects would the proposed timber harvest, road construction, and prescribed fire have on the water and fishery resources in the area? 2. What effects would the proposed actions have on ecosystem health, productivity and forest products. 3. How would road construction, timber harvesting, and prescribed burning affect wildlife species in the area? 4. How would the proposed actions affect the Tolan roadless area and adjacent undeveloped lands? 5. How would the proposed actions affect recreation and motorized access opportunities? 6. How would visual quality be affected? This list may be verified; expanded, or modified based on continued public scoping.

The Forest Service will consider a range of alternatives in the EIS. One of these will be the “no action” alternative, in which none of the proposed activities would be implemented. Additional alternatives will examine varying levels and locations for the proposed activities to achieve the proposal's purposes, as well as to respond to the issues and other resource values. The EIS will analyze the direct, indirect, and cumulative environmental effects of the alternatives. Past, present, and scheduled activities on both private and National Forest lands will be considered. The EIS will disclose the analysis of site specific mitigation measures and their effectiveness.

The Draft EIS is expected to be filed with the Environmental Protection Agency (EPA) and available for public review in July, 2000. At that time, the EPA will publish a Notice of Availability of the Draft EIS in the Federal Register. The comment period on the Draft EIS will be 45 days from the date the EPA's notice of availability appears in the Federal Register. It is very important that those interested in management of the Meadow-Tolan area participate at that time. To be most helpful, comments on the Draft EIS should be as specific as possible. The Final EIS is scheduled to be completed in December, 2000.

The Forest Service believes, at this early stage, it is important to give reviewers notice of several court rulings related to public participation in the environmental review process. First, reviewers of draft environmental impact statements must structure their participation in the Environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages v. Harris, 490 F. Supp.-1334, 1338 (E.D. Wis. 1980). Because of these court rulings, it is very important that those interested in this proposed action participate by the close of the scoping comment period so that substantive comments and objections are made available to the Forest Service at a time when it can meaningfully consider them and respond to them in developing issues and alternatives.

To assist the Forest Service in identifying and considering issues on the proposed action, comments should be as specific as possible. Reviewers may wish to refer to the Council on Environmental Quality Regulations for implementing the procedural provisions of the National Environmental Policy Act at 40 CFR 1503.3 in addressing these points.

The responsible official for this environmental impact statement is Rodd Richardson, Forest Supervisor, Bitterroot National Forest, 1801 North First, Hamilton, MT 59840. He will decide which, if any, of the proposed actions will be implemented and will document the decision and reasons for the decision in a Record of Decision. That decision will be subject to Forest Service Appeal Regulations.

Dated: February 1, 2000.
Rodd Richardson,
Forest Supervisor, Bitterroot National Forest.

[FR Doc. 00-3101 Filed 2-9-00; 8:45 am]

BILLING CODE 3410-83-M